DEPARTMENT OF STATE

[Public Notice: 11600]

60-Day Notice of Proposed Information Collection: Electronic Diversity Visa Entry Form

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to February 4, 2022.

ADDRESSES:

You may submit comments by any of the following methods:

• Web: Persons with access to the internet may comment on this notice by going to www.Regulations.gov. You can search for the document by entering “Docket Number: DOS-2021-0035” in the Search field. Then click the “Comment Now” button and complete the comment form.

• Email: PRA_BurdenComments@state.gov.

• Phone: 202-485-7586.

You must include the DS form number (if applicable), information collection title, and the OMB control number in any correspondence. As well as current contact information to allow us to respond.

SUPPLEMENTARY INFORMATION: • Title of Information Collection: Electronic Diversity Visa Entry Form.

• OMB Control Number: 1405-0153.

• Type of Request: Extension of a Currently Approved Collection.

• Originating Office: CA/VO.

• Form Number: DS-5501.

• Respondents: Diversity Visa Entrants.

• Estimated Number of Respondents: 14,589,023.

• Estimated Number of Responses: 14,589,023.

• Average Time per Response: 30 minutes.

• Total Estimated Burden Time: 7,294,511.5 hours.

• Frequency: Annually.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department of State utilizes the Electronic Diversity Visa (“EDV”) Entry Form to elicit information necessary to establish the eligibility of the applicant for the diversity immigrant visa program. The two primary requirements of the program are: (1) The applicant is a native of a low admission country and (2) has at least a high education or its equivalent, or has two years of experience in a job that requires two years of training or experience. Individuals complete the electronic entry forms and then applications are randomly selected for further participation in the program. The Department of State's regulations pertaining to diversity immigrant visas are published in 22 CFR 42.33.

Methodology

The EDV Entry Form is available online at https://dvprogram.state.gov and can only be submitted electronically during the annual registration period.

Kevin E. Bryant,
Deputy Director, Office of Directives Management, Department of State.

[FR Doc. 2021-26327 Filed 12-3-21; 8:45 am]

BILLING CODE 4710-06-P